DEPARTMENT OF VETERANS AFFAIRS

[OMB Control No. 2900-0691]

Agency Information Collection Activity; Comment Request; Learner's Perceptions Survey (LPS)

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before June 1, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0691” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0691.”

SUPPLEMENTARY INFORMATION:

Titles:

1. Learners' Perceptions Survey PR, VA Form 10-0439.

2. Learners' Perceptions Survey AH, VA Form 10-0439.

OMB Control Number: 2900-0691.

Type of Review: Revision.

Abstracts:

Under the authority of Federal Law 38 U.S.C. Part V, Chapter 73, Section 7302, the Department of Veterans Affairs (VA) provides education and training to over 120,000 national cohorts of health care trainees per year to assist in providing an adequate supply of health personnel for VA and the Nation. VA is further required to evaluate this program on a continuing basis and determine its effectiveness in achieving its goals (Federal Law, 38 U.S.C. Part I, Chapter 5, Section 527). In addition, the Government Performance and Results Act (GPRA) of 1993, requires Federal agencies to set goals, measure performance, and report on the accomplishments.

An agency may not conduct or sponsor, and a person is not required to respond to a collection of information unless it displays a currently valid OMB control number. The Federal Register Notice with a 60-day comment period soliciting comments on this collection of information was published at 80 FR 77083 on December 11, 2015.

Affected Public: Individuals or households.

Estimated Annual Burden:

a. Learners' Perceptions Survey PR, VA Form 10-0439—3,750 hours.

b. Learners' Perceptions Survey AH, VA Form 10-0439—3,750 hours.

Estimated Average Burden Per Respondent:

a. Learners' Perceptions Survey PR, VA Form 10-0439—15 minutes.

b. Learners' Perceptions Survey AH, VA Form 10-0439—15 minutes.

Frequency of Response: Annually.

Estimated Annual Responses:

a. Learners' Perceptions Survey PR, VA Form 10-0439—15,000.

b. Learners' Perceptions Survey AH, VA Form 10-0439—15,000.

By direction of the Secretary.
Kathleen M. Manwell,
Program Analyst, U.S. Department of Veterans Affairs.

[FR Doc. 2016-10195 Filed 4-29-16; 8:45 am]

BILLING CODE 8320-01-P